DEPARTMENT OF THE INTERIOR

Bureau of Land Management

[NV-020-1990-01]

Marigold Mine Draft Environmental Impact Statement

AGENCY: Bureau of Land Management, Interior.

ACTION: Notice of availability.

SUMMARY: Pursuant to section 102(2)(c) of the National Environmental Policy Act of 1969, notice is given that the Winnemucca Field Office of the Bureau of Land Management (BLM) has prepared, by third party contractor, a Draft Environmental Impact Statement on Glamis Marigold Mining Company's Marigold Mine Expansion Project. This document is available for public review for a 45 day period.

DATES AND ADDRESSES: Written comments on the Draft Environmental Impact Statement must be postmarked by April 10, 2000.

Public meetings to receive oral and written comments have been scheduled for the dates and places listed below. Meetings will begin at 7 p.m.

March 8, 2000, Battle Mountain Field Office, 50 Bastian Road, Battle Mountain, Nevada.

March 9, 2000 at the Winnemucca Field Office, 5100 E. Winnemucca Blvd., Winnemucca, Nevada.

A copy of the Draft Environmental Impact Statement can be obtained from: Bureau of Land Management, Winnemucca Field Office, ATTN: Gerald Moritz, Project Manager, 5100 E. Winnemucca Blvd., Winnemucca, Nevada 89445.

The Draft Environmental Impact Statement is available for inspection at the following additional locations: Bureau of Land Management, Nevada State Office, 1340 Financial Blvd., Reno, Nevada: Humboldt County Library, Winnemucca, Nevada: Lander County Library, Battle Mountain, Nevada: and the University of Nevada Library in Reno, Nevada.

FOR FURTHER INFORMATION CONTACT: Gerald Moritz, Project Manager at the above Winnemucca Field Office address or telephone (702) 623-1500.

SUPPLEMENTARY INFORMATION: The Draft Environmental Impact Statement analyzes the potential environmental impacts that could result from the continued mining and expansion of the Red Rock and Top Zone pits, mining of two new pits (5-North and 8-North), new heap leach facility, heap leach pad expansion, new waste rock dumps, waste rock dump expansion, tailing impoundment and/or new tailing impoundment, miscellaneous ancillary facilities and exploration disturbance. The document analyzes three alternatives: the Proposed Action, the No Action, and the 8-South Partial Pit Backfill.

Dated: February 2, 2000.
Terry A. Reed,
Field Manager.

[FR Doc. 00-3270 Filed 2-10-00; 8:45 am]

BILLING CODE 4310-HC-M